DEPARTMENT OF THE INTERIOR

Bureau of Land Management

[ES-030-1430-FQ; MNES-055404]

Public Land Order No. 7740; Partial Modification of Secretarial Order Dated July 29, 1910; Minnesota

AGENCY: Bureau of Land Management, Interior.

ACTION: Public Land Order.

SUMMARY: This order modifies a Secretarial Order insofar as it affects 212 acres of National Forest System land withdrawn for protection of water power values by Power Site Reserve No. 148. This order opens the land to exchange subject to Section 24 of the Federal Power Act.

DATES: Effective Date: April 22, 2010.

FOR FURTHER INFORMATION CONTACT: Steven Wells, Bureau of Land Management-Eastern States, 7450 Boston Boulevard, Springfield, Virginia 22153 703-440-1535.

SUPPLEMENTARY INFORMATION: The land described in this order has been identified for disposal by the United States Forest Service for improved forest management. This action will permit the consummation of a pending land exchange and reserve the power rights to the United States.

Order

By virtue of the authority vested in the Secretary of the Interior by Section 204 of the Federal Land Policy and Management Act of 1976, 43 U.S.C. 1714, the Act of June 10, 1920, Section 24, as amended, 16 U.S.C. 818, and pursuant to the determination of the Federal Energy Regulatory Commission dated July 28, 2008, it is declared and ordered as follows:

1. The Secretarial Order dated July 29, 1910, which established Power Site Reserve No. 148, is hereby modified to allow for exchange in accordance with the Act of March 20, 1922, as amended, 16 U.S.C. 485, 486, as to the following described land:

Superior National Forest

4th Principal Meridian

T. 62 N., R. 11 W.,

Sec. 28, lot 3 and SE¼;SW¼;

Sec. 32, lot 4;

Sec. 33, lots 3 and 4.

The area described contains 212 acres in Lake County.

2. The land described in Paragraph 1 is hereby opened and made available for exchange in accordance with the Act of March 20, 1922, as amended, 16 U.S.C. 485, 486, subject to the provisions of Section 24 of the Federal Power Act, valid existing rights, the provisions of existing withdrawals, other segregations of record, and the requirements of applicable law.

Dated: April 9, 2010.
Wilma A. Lewis,
Assistant Secretary—Land and Minerals Management.

[FR Doc. 2010-9344 Filed 4-21-10; 8:45 am]

BILLING CODE 3410-11-P